NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold twenty-one meetings, by videoconference, of the Humanities Panel, a federal advisory committee, during July 2021. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: July 13, 2021

This video meeting will discuss applications on the topic of Museums, for the Infrastructure and Capacity Building Challenge Grants program, submitted to the Division of Challenge Programs.

2. Date: July 14, 2021

This video meeting will discuss applications on the topics of History and Culture, for the Infrastructure and Capacity Building Challenge Grants program, submitted to the Division of Challenge Programs.

3. Date: July 15, 2021

This video meeting will discuss applications on the topics of Digital Media and Arts Access, for the Preservation Education and Training grant program, submitted to the Division of Preservation and Access.

4. Date: July 16, 2021

This video meeting will discuss applications on the topic of Collections Care, for the Preservation Education and Training grant program, submitted to the Division of Preservation and Access.

5. Date: July 16, 2021

This video meeting will discuss applications on the topic of Museums, for the Infrastructure and Capacity Building Challenge Grants program, submitted to the Division of Challenge Programs.

6. Date: July 19, 2021

This video meeting will discuss applications on the topics of History and Culture, for the Infrastructure and Capacity Building Challenge Grants program, submitted to the Division of Challenge Programs.

7. Date: July 19, 2021

This video meeting will discuss applications on Fellowships for Advanced Social Science Research on Japan, submitted to the Division of Research Programs.

8. Date: July 20, 2021

This video meeting will discuss applications on the topic of Higher Education, for the Infrastructure and Capacity Building Challenge Grants program, submitted to the Division of Challenge Programs.

9. Date: July 22, 2021

This video meeting will discuss applications on the topic of Higher Education, for the Infrastructure and Capacity Building Challenge Grants program, submitted to the Division of Challenge Programs.

10. Date: July 22, 2021

This video meeting will discuss applications on the topics of Social Sciences and History, for the Awards for Faculty grant program, submitted to the Division of Research Programs.

11. Date: July 22, 2021

This video meeting will discuss applications on the topics of U.S. History and Politics, for the Awards for Faculty grant program, submitted to the Division of Research Programs.

12. Date: July 23, 2021

This video meeting will discuss applications on the topics of Global History and Studies, for the Awards for Faculty grant program, submitted to the Division of Research Programs.

13. Date: July 26, 2021

This video meeting will discuss applications on the topics of History, Philosophy, and Religion, for the Awards for Faculty grant program, submitted to the Division of Research Programs.

14. Date: July 27, 2021

This video meeting will discuss applications on the topics of Comparative European and Latin American Literatures, for the Awards for Faculty grant program, submitted to the Division of Research Programs.

15. Date: July 27, 2021

This video meeting will discuss applications on the topics of American Literature, Studies, Media, and Communications, for the Awards for Faculty grant program, submitted to the Division of Research Programs.

16. Date: July 28, 2021

This video meeting will discuss applications on the topics of British and European Literature, for the Fellowships grant program, submitted to the Division of Research Programs.

17. Date: July 28, 2021

This video meeting will discuss applications on the topic of Arts, for the Awards for Faculty grant program, submitted to the Division of Research Programs.

18. Date: July 29, 2021

This video meeting will discuss applications on the topics of African and Asian Studies, for the Fellowships grant program, submitted to the Division of Research Programs.

19. Date: July 29, 2021

This video meeting will discuss applications on the topics of European History and Political Theory, for the Fellowships grant program, submitted to the Division of Research Programs.

20. Date: July 30, 2021

This video meeting will discuss applications on the topics of Latin American Studies and American Studies, for the Fellowships grant program, submitted to the Division of Research Programs.

21. Date: July 30, 2021

This video meeting will discuss applications on the topics of Social Sciences and History of Science, for the Fellowships grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: June 16, 2021.
Elizabeth Voyatzis,
Committee Management Officer.

[FR Doc. 2021-13086 Filed 6-21-21; 8:45 am]

BILLING CODE 7536-01-P